DEPARTMENT OF COMMERCE

Foreign-Trade Zones Board

[B-27-2015]

Foreign-Trade Zone (FTZ) 154—Baton Rouge, Louisiana Notification of Proposed Production Activity Syngenta Crop Protection, LLC (Herbicides and Insecticides) St. Gabriel and Baton Rouge, Louisiana

The Greater Baton Rouge Port Commission, grantee of FTZ 154, submitted a notification of proposed production activity to the FTZ Board on behalf of Syngenta Crop Protection, LLC (Syngenta), located at facilities in St. Gabriel and Baton Rouge, Louisiana. The notification conforming to the requirements of the regulations of the FTZ Board (15 CFR 400.22) was received on April 22, 2015.

A separate application for subzone designation at the Syngenta facilities was submitted and will be processed under Section 400.31 of the Board's regulations. The facilities are used for the production of crop protection products including herbicides and insecticides, in retail packaging and bulk. Syngenta may produce its own products or provide contract manufacturing for other companies. Pursuant to 15 CFR 400.14(b), FTZ activity would be limited to the specific foreign-status materials and components and specific finished products described in the submitted notification (as described below) and subsequently authorized by the FTZ Board.

Production under FTZ procedures could exempt Syngenta from customs duty payments on the foreign-status components used in export production. On its domestic sales, Syngenta would be able to choose the duty rates during customs entry procedures that apply to the finished products (whether in brand name or generic form) (duty rates are 5% or 6.5%) for the foreign-status inputs noted below. The finished products include the herbicides: Bicep II MagnumTM; Bicep Lite II™, Dual II Magnum™; S-Moc Microcaps™; Touchdown Total™; Lexar™; Desica™; Mesotrione 28% MUP™; Sable™; Traxion™; Departure™; Refuge™; Touchdown™Hitech; Gesatop™; Gesatop-Nueve-O™; Reglone™; Traxion™; Halex GT™; Coloso Total™; Primextra II™; Demp Malonamid Tech™; Lumax™; Lumax Gold™; Reward™; Brawl II ATZ™; Bicep Maxx™; Sequence™; and Charger Maxx ATZ™. Finished products also include the following insecticides: Engeo Pleno™; Voliam Xpress™; Karate Zeon™; Eforia™ and Engeo Full™. Customs duties also could possibly be deferred or reduced on foreign-status production equipment.

The components and materials sourced from abroad include: s-metolachlor; mesotrione wet paste; pinoxaden (2-bromo-1,3-diethyl-5-methyl benzene); lambda-cyhaolthrin technical, pyrethroid pesticide, liquid; glyphosate acid technical 2; benoxacor (ortho nitrophenols); paraquat concentrate ES (paraquat dichloride); thiamethoxam; chlorantraniliprole; lufenuron; and diquat (duty rates range from free to 6.5%).

Public comment is invited from interested parties. Submissions shall be addressed to the FTZ Board's Executive Secretary at the address below. The closing period for their receipt is June 15, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Diane Finver at Diane.Finver@trade.gov or (202) 482-1367.

Dated: April 28, 2015.
Andrew McGilvray,
Executive Secretary.

[FR Doc. 2015-10379 Filed 5-1-15; 8:45 am]

BILLING CODE 3510-DS-P